DEPARTMENT OF HOMELAND SECURITY

Customs and Border Protection

DEPARTMENT OF THE TREASURY

19 CFR Part 165

[USCBP-2016-0053; CBP Dec. No. 16-11]

RIN 1515-AE10

Investigation of Claims of Evasion of Antidumping and Countervailing Duties; Correction

AGENCY: U.S. Customs and Border Protection, Department of Homeland Security; Department of the Treasury.

ACTION: Interim final rule; correction.

SUMMARY: U.S. Customs and Border Protection (CBP) published an interim final rule on August 22, 2016, in the Federal Register, concerning investigation of claims of evasion of antidumping and countervailing duties. In accordance with section 421 of the Trade Facilitation and Trade Enforcement Act of 2015, the rule amended the U.S. Customs and Border Protection regulations to set forth procedures for CBP to investigate claims of evasion of antidumping and countervailing duty orders. That document inadvertently omitted a comma in the definition of “evade or evasion.” This document corrects the text in that definition.

DATES: This correction is effective September 8, 2016.

FOR FURTHER INFORMATION CONTACT: Robert Altneu, Chief, Trade and Commercial Regulations Branch, Regulations and Rulings, Office of Trade, at robert.f.altneu@cbp.dhs.gov.

SUPPLEMENTARY INFORMATION: On August 22, 2016, U.S. Customs and Border Protection (CBP) published in the Federal Register (81 FR 56477) an Interim Final Rule (CBP Dec. 16-11) document, entitled “Investigation of Claims of Evasion of Antidumping and Countervailing Duties.” As published, the interim final regulation contains an error in the text of the definition of “evade or evasion” in § 165.1. The definition should be the same as the statutory definition found in section 421 of the Trade Facilitation and Trade Enforcement Act of 2015 (19 U.S.C. 1517(a)(5)), but a comma was inadvertently omitted.

The effective date for the interim final rule (CBP Dec. 16-11), published August 22, 2016 (81 FR 56477), remains August 22, 2016. Written comments must be submitted on or before October 21, 2016.

List of Subjects in 19 CFR Part 165

Administrative practice and procedure, Business and industry, Customs duties and inspection.

For reasons stated in the preamble, 19 CFR part 165 is amended by making the following correcting amendment:

PART 165—INVESTIGATION OF CLAIMS OF EVASION OF ANTIDUMPING AND COUNTERVAILING DUTIES

1. The authority citation for part 165 continues to read as follows:

Authority: 19 U.S.C. 66, 1481, 1484, 1508, 1517 (as added by Pub. L. 114-125, 130 Stat. 122,155 (19 U.S.C. 4301 note)), 1623, 1624, 1671, 1673.

§ 165.1 [Amended]

2. In § 165.1, in the definition of “Evade or evasion”, remove the phrase “or any omission that is material and that results in any cash deposit” and add in its place the phrase “or any omission that is material, and that results in any cash deposit”.

Harold M. Singer,
Director, Regulations and Disclosure Law Division, Regulations and Rulings, Office of Trade, U.S. Customs and Border Protection.
Approved: September 2, 2016.
Timothy E. Skud,
Deputy Assistant Secretary of the Treasury.

[FR Doc. 2016-21582 Filed 9-7-16; 8:45 am]

BILLING CODE 9111-14-P